DEPARTMENT OF DEFENSE

Department of the Air Force

[ARL-240222A-AA]

Notice of Intent To Assign Foreign Patent Rights Patent

AGENCY: Department of the Air Force, Department of Defense.

ACTION: Notice of intent.

SUMMARY: Pursuant to the Bayh-Dole Act and implementing regulations, the Department of the Air Force hereby gives notice of its intent to assign foreign patent rights to the patent applications listed below to the Government of Japan as represented by the Commissioner of Acquisition Tech and Logistics, 5-1, Ichigayahonmuracho, Shinjuku-ku, Tokyo, JP 162-8870. The Department of the Air Force will retain all rights, title, and interest in U.S. Application Serial No. 17/779,954, entitled FIBER REINFORCED POLYMER COMPOSITE STRUCTURES AND ELECTROMAGNETIC INDUCTION PROCESS FOR MAKING SAME, and filed on 19 November 2020.

DATES: Written objections must be filed no later than fifteen (15) calendar days after the date of publication of this Notice.

ADDRESSES: Submit written objections to Department of the Air Force T3 Program Office, 1864 4th Street, Building 15, Wright-Patterson AFB, OH 45433; Phone: 937-607-8230; or Email: afrl.sb.t3officeacount@us.af.mil. Include Docket No. ARL-240222A-AA in the subject line of the message.

FOR FURTHER INFORMATION CONTACT: Department of the Air Force T3 Program Office, 1864 4th Street, Building 15, Wright-Patterson AFB, OH 45433; Phone: 937-607-8230; or Email: afrl.sb.t3officeacount@us.af.mil.

Abstract of patent application(s):

The present invention relates to resin compositions, fiber reinforced polymeric structures and electromagnetic induction processes for making same. Such magnetic induction processes are pulsed processes that can be optionally coupled with cooling steps between pulses. The aforementioned fiber reinforced polymeric structures can take forms that include, but are not limited to, pipes; pressure vessels, including rocket motor cases and fire extinguishers; golf club shafts; tennis and badminton racquets; skis; snowboards; hockey sticks; fishing rods; bicycle frames; boat masts; oars; paddles; baseball bats; and softball bats. In addition, such fiber reinforced polymeric structures can be supplemented with other materials, such as a rocket propellant, to form articles, for example, a rocket motor.

Intellectual property:

EP Application No. 20892987, entitled FIBER REINFORCED POLYMER COMPOSITE STRUCTURES AND ELECTROMAGNETIC INDUCTION PROCESS FOR MAKING SAME, and filed on 19 November 2020.

JP Application No. 2022530177A, entitled FIBER REINFORCED POLYMER COMPOSITE STRUCTURES AND ELECTROMAGNETIC INDUCTION PROCESS FOR MAKING SAME, and filed on 19 November 2020.

The Department of the Air Force may assign these foreign patent rights unless a timely objection is received that sufficiently shows that such assignment would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2024-06544 Filed 3-27-24; 8:45 am]

BILLING CODE 3911-44-P